FEDERAL COMMUNICATIONS COMMISSION

47 CFR Part 54

[WC Docket No. 21-450; FCC 22-65; FR ID 101252]

Affordable Connectivity Program

AGENCY: Federal Communications Commission.

ACTION: Final action.

SUMMARY: In this document, the Federal Communications Commission (Commission) establishes a pilot program, titled “Your Home, Your internet,” designed to increase awareness of and encourage participation in the Affordable Connectivity Program for households receiving Federal housing assistance.

DATES: The pilot program is established as of September 6, 2022.

FOR FURTHER INFORMATION CONTACT: Sherry Ross, Wireline Competition Bureau, (202) 418-7400 or by email at Sherry.Ross@fcc.gov. The Federal Communications Commission asks that requests for accommodations be made as soon as possible in order to allow the agency to satisfy such requests whenever possible. Send an email to fcc504@fcc.gov or call the Consumer and Governmental Affairs Bureau at (202) 418-0530.

SUPPLEMENTARY INFORMATION: This is a synopsis of the Commission's Third Report and Order in WC Docket No. 21-450; FCC 22-65, adopted on August 5, 2022 and released on August 8, 2022. Due to the COVID-19 pandemic, the Commission's headquarters will be closed to the general public until further notice. The full text of this document is available at the following internet address: https://www.fcc.gov/document/fcc-releases-rules-implement-affordable-connectivity-program.

Synopsis

I. Introduction

1. Earlier this year, the Federal Communications Commission (Commission) established the $14.2 billion Affordable Connectivity Program (or ACP). Over 12 million households have signed up to receive a $30 benefit (or up to $75 per month for households on qualifying Tribal lands) to offset the cost of internet access. For those households, the Affordable Connectivity Program can open up a world of opportunity. They can work from home, take advantage of telehealth and remote schooling, and stay connected with friends and family. The Commission is committed to bringing those benefits to the millions more eligible households who have not yet signed up. In this document, the Commission establishes a pilot program, titled “Your Home, Your internet,” designed to increase awareness of and encourage participation in the Affordable Connectivity Program for households receiving Federal housing assistance.

2. When the Commission adopted the final ACP rules in January 2022, it sought comment on a proposal to target outreach and provide application support to residents of public housing and other Federal housing assistance recipients. By establishing this pilot program, the Commission intends to test the best methods to make recipients aware of and to help them enroll in the Affordable Connectivity Program. The Commission will also use the tools and resources provided to it through the Infrastructure Investment and Jobs Act (Infrastructure Act), such as the ability to collaborate with other agencies, including continuing and expanding upon existing collaborations, to help households receiving Federal housing assistance access affordable broadband service.

II. Discussion

3. In this document, the Commission first identifies discrete ACP enhancements and improvements to the ACP application process, the effectiveness of which will be tested during the pilot program. Next, the Commission establishes a one-year pilot program, “Your Home, Your internet,” with the goal of increasing awareness of the Affordable Connectivity Program among recipients of Federal housing assistance and facilitating enrollment in the program by providing targeted assistance with completion of the ACP application.

4. Your Home, Your internet will couple targeted outreach with hands-on application assistance. It will test ways to increase ACP participation by recipients of Federal housing assistance who are eligible for the Affordable Connectivity Program but, based on the Commission's experience, may not be aware of or enrolled in the program. The Commission will select up to 20 pilot participants, which may include government entities and third-party organizations serving Federal housing assistance recipients, from across the country. The Commission intends to select pilot participants from a variety of settings, including urban, rural, and Tribal communities. As discussed below, applicants may propose a variety of activities, including the development of new promotional materials, hands-on application assistance, and site-based outreach. Participants will be given the option to access the National Verifier to better assist consumers in applying for ACP benefits. Participants also will be allowed to apply for a grant to fund Your Home, Your internet pilot projects through the Affordable Connectivity Outreach Grant Program that the Commission adopts in a final rule published elsewhere in this issue of the Federal Register. The Commission has allocated up to $5 million of the $100 million designated for outreach in the ACP Order, 87 FR 8346, February 14, 2022, to provide grants to fund Your Home, Your internet pilot projects. The Commission also has allocated up to an additional $5 million to fund its own outreach activities alongside the grant funds and may collaborate with the Department of Housing and Urban Development (HUD) and other Federal agency partners that work directly with Federal housing assistance recipients to increase awareness of and participation in the Affordable Connectivity Program among recipients of Federal housing assistance.

A. Commission Actions To Enhance the ACP Application Process

5. The Commission directs the Wireline Competition Bureau (the Bureau) and the Universal Service Administrative Company (USAC) to take several actions that the Commission expects will facilitate more efficient ACP access for Federal housing assistance recipients in general as well as those working with pilot participants to qualify for the Affordable Connectivity Program. To test their effectiveness during the pilot program, the Commission commits, where practicable, to making these enhancements as expeditiously as possible.

6. First, based on the record and specific feedback from HUD staff, the Commission will change its enrollment materials to include more recognizable language to describe Federal Public Housing Assistance (FPHA) eligibility so participants in the Native American affordable housing, public housing, housing choice voucher, and project-based rental assistance (PBRA) programs (PBRA, Section 202, and Section 811) can more easily identify the program in which they participate. Commenters also argue that there is a lack of clear guidance on what is considered to be a qualifying FPHA program. Without further explanation, participants in those programs may mistakenly believe they do not qualify for the Affordable Connectivity Program. Accordingly, the Commission directs the Bureau and USAC to provide explanatory language naming Native American affordable housing, public housing, housing choice vouchers, and project-based rental assistance in the ACP application (including at the point where applicants select the qualifying programs in which they participate), in related USAC materials, and in the materials created by the Commission.

7. Second, the Commission directs the Bureau, the Office of General Counsel (OGC), the Office of Managing Director (OMD), and USAC to expand and swiftly finalize a revised data sharing agreement with HUD that would allow more Federal housing assistance recipients to be automatically approved for the Affordable Connectivity Program through the National Verifier. The National Verifier is designed to ease the qualification process by leveraging connections with state and Federal database connections. The National Verifier is also an important tool for combating waste, fraud, and abuse in the Affordable Connectivity Program by validating consumer identity and, with the use of the National Lifeline Accountability Database (NLAD), identifying duplicate households in the program.

8. The Commission and HUD have an existing computer matching agreement (CMA) and database connection for the automatic eligibility verification of households participating in certain FPHA programs. This existing agreement, which complies with the Computer Matching and Privacy Protection Act of 1988, covers a connection with the HUD Inventory Management System/Public Housing Information Center (IMS/PIC) database. This connection already allows the National Verifier to automatically qualify households that participate in the public housing and housing choice voucher programs for the Affordable Connectivity Program and Lifeline. Consumers whose eligibility is automatically determined by the National Verifier can proceed to enroll in the Affordable Connectivity Program. Consumers that are not able to be verified through an automated database connection will need to provide documentation for manual review.

9. Because the manual review process is more burdensome than automatic eligibility checks—especially for applicants, but also for USAC—the Commission is committed to further minimizing the use of manual review. To that end, Commission staff are already working with HUD staff to explore establishing an additional connection with the Tenant Rental Assistance Certification System (TRACS) database that would allow more Federal housing assistance recipients to qualify automatically. The TRACS database includes tenants receiving rental housing assistance through the PBRA, Section 202, and Section 811 programs and a connection with the TRACS database would allow households receiving assistance through those programs to be automatically verified without undergoing a manual review process. Finalizing that effort will allow more Federal housing assistance recipients to enroll faster and with less assistance, allowing pilot program participants to stretch their resources further and assist more households. Accordingly, the Commission directs the Bureau and USAC to expedite the completion of that process so that pilot program participants will benefit to the greatest extent possible.

10. Third, because manual review will continue to be necessary for some Federal housing assistance recipients, the Commission directs the Bureau and USAC to take steps to expedite the manual review process and to test the effectiveness of these actions during the pilot program. Currently, USAC provides high-level guidance on the requirements for supporting documentation to demonstrate Federal housing assistance eligibility Federal housing assistance households may need to contact their local public housing agency (PHA) or other Federal housing assistance provider (e.g., for PBRA, Section 202, or Section 811 tenants) for documentation, and those staff may not be aware of the Affordable Connectivity Program at all or what documentation the household will need. The Commission directs the Bureau and USAC to consult with HUD about the types of documentation PHAs and other Federal housing assistance providers typically provide and create a standardized form to be made available to pilot participants for use by an applicant to demonstrate eligibility in a qualifying Federal housing assistance program to streamline and expedite the manual review process in the National Verifier for Federal housing assistance recipients, PHAs, and USAC reviewers.

11. Finally, the Commission directs USAC, with oversight from the Bureau, to designate a direct point of contact at USAC for organizations selected to participate in the Your Home, Your internet Pilot Program to provide additional support when pilot participants are assisting consumers during the application process. This point of contact should be trained on issues related to Federal housing assistance eligibility and prepared to directly assist pilot participants with questions about the ACP application, including any documentation requirements. Contact information for this point of contact shall be made available to pilot participants to test the impact of having a dedicated point of contact for application-related questions regarding the qualification process.

B. The “Your Home, Your Internet” Pilot Program

12. Below, the Commission identifies the specifics of the one-year Your Home, Your Internet Pilot Program. The Commission describes eligible entities that may apply to participate, funding for selected projects, activities these organizations may undertake as part of the pilot program, the procedures and criteria the Bureau will use to select the participants, and the metrics the Commission will use when evaluating the program's results.

1. Entities Eligible To Apply

13. The Commission encourages Federal and non-Federal organizations to apply to participate in the Your Home, Your Internet Pilot Program. Applicants may include Federal agencies and their partners, housing agencies, and entities that provide ACP support for Federal housing assistance recipients, as described further below. The Commission recognizes that challenges large housing agencies face may differ from smaller providers of federally assisted housing and that Tribal, urban, and rural communities may benefit from different approaches. The Commission therefore intends to select pilot participants operating in a variety of settings in order to generate information about what works in different kinds of communities. Congress expressly authorized the Commission to target outreach to eligible households, including, in particular, to recipients of Federal housing assistance. Congress also required the Commission to “collaborate with relevant Federal agencies to ensure that a household that participates in any program that qualifies the household for the Affordable Connectivity Program is provided information about the Program.” The Commission recognizes that Federal housing assistance recipients live in a variety of settings across the country, from single-family homes to large, urban housing developments, and that Federal housing assistance operates through a web of public housing agencies and private landlords. Thus, the decentralized nature of Federal housing assistance requires an “all hands” approach to raising awareness among this group of qualifying households that are served by private and public entities across the country.

14. Federal agency partners. The Commission encourages its Federal agency partners, many of whom have promoted the Affordable Connectivity Program thus far, to singularly or in coordination with other partners submit applications for the pilot program with ideas and proposals designed to ensure that households participating in public housing or receiving Federal housing assistance are provided with information about the Affordable Connectivity Program, including application and enrollment information.

15. Given the overlap between the Affordable Connectivity Program and Federal housing assistance, the Commission has worked closely with HUD in order to raise awareness of the Affordable Connectivity Program among those eligible households. The Commission expects that this relationship will only strengthen further as the collaboration continues. This is consistent with commenters that emphasize the need to continue to collaborate with HUD. The Commission acknowledges, however, that there are Federal agencies beyond HUD that work with households that receive Federal housing assistance. For example, commenters recommend that the Commission collaborates with the National Telecommunications and Information Administration (NTIA) and the Department of Education. The Alaska Federation of Natives (AFN) urges the Commission to reach Tribal households receiving Federal housing assistance by coordinating with the Office of Native American Programs at HUD, the Bureau of Indian Affairs in the Department of the Interior, and the Indian Health Service in the Department of Health and Human Services. The Commission agrees with commenters that continuing to expand its collaboration within HUD and with other Federal agencies, as the Commission is directed to do under the Infrastructure Act, will increase its reach and allow more touchpoints with households receiving Federal housing assistance. The Commission urges interested Federal partners to consider applying to participate in the pilot program and to share their expertise.

16. Non-Federal partners. In addition to Federal agencies, the Commission urges state, local, and Tribal housing agencies and non-profit and community-based organizations working with Federal housing assistance recipients to apply to participate in Your Home, Your internet. Commenters agree. For example, the Chicago Housing Authority argues that empowering local housing agencies and community organizations to help spread awareness of the program builds trust. AFN urges the Commission to leverage the Tribally Designated Housing Entities (TDHE) or the associations representing multiple TDHE, such as the Association of Alaska Housing Authorities, for outreach. Starry states that the Commission should also consider structuring outreach efforts to reach Federal housing assistance recipients who live outside of centrally managed public or affordable housing communities. Additionally, the San Diego Association of Governments (SANDAG) recommends that the Commission collaborate with the San Diego Housing Commission to help connect the 16,000 San Diego area households that receive Federal Section 8 housing choice voucher rental assistance through the San Diego Housing Commission.

17. The Commission agrees with commenters that the relationships that regional, state, local, and Tribal housing agencies and community-based organizations have fostered with the Federal housing assistance recipients whom they support will help the Commission spread awareness of the Affordable Connectivity Program. A common theme in the record is the need to develop trust to ensure low-income consumers know that the Affordable Connectivity Program is a legitimate government program that can help reduce a household's monthly internet bill. The Commission is persuaded that regional, state, local, and Tribal housing agencies and community-based organizations are vital avenues for connecting with Federal housing assistance recipients. Therefore, the Commission similarly encourages such organizations that serve the needs of this target group to submit pilot program proposals designed to help spread awareness of the Affordable Connectivity Program and encourage enrollment during this pilot.

2. Funding

18. To help support this innovative pilot program, the Commission will allocate up to $10 million of the $100 million identified in the ACP Order for ACP outreach to support Your Home, Your Internet participation. Of this $10 million, up to $5 million will be available in the form of grants for use by grant-eligible pilot participants under the Affordable Connectivity Outreach Grant Program and requirements and procedures for applying for such grants will be separately announced. The Commission directs the Consumer and Governmental Affairs Bureau (CGB) to incorporate the parameters for this pilot program into the requirements and procedures for the Affordable Connectivity Outreach Grant Program, as applicable. Additionally, the Commission will target up to an additional $5 million to fund its own outreach efforts, and may coordinate these efforts with HUD and other Federal agency partners.

19. The Commission finds that there likely is substantial need for funding to support the Your Home, Your Internet Pilot Program to increase participation among the households residing in public housing or receiving Federal housing assistance. This funding will support the pilot participants as they seek to reach and connect the households living in approximately 5 million available housing units subsidized by Federal housing assistance. The ACP Order supports such an allocation. It particularly names, among the outreach activities for which that money is dedicated, “immediate outreach activities and a potential outreach grant program.” The Commission found in the ACP Order that “a wide range of outreach is needed to best promote awareness of and increase participating in the Affordable Connectivity Program.” Funding Your Home, Your Internet is also consistent with the statute and Congressional intent because the Infrastructure Act allows “outreach efforts to encourage eligible households to enroll in the Affordable Connectivity Program.”

20. A broad and diverse set of commenters agree that the Commission must include a funding source as part of the pilot program. EducationSuperHighway supports funding to support services to increase enrollment, including translation services, outreach materials, and device support. Similarly, the California Emerging Technology Fund asks the Commission to award grant funding and Los Angeles County supports awarding grants to local governments, including counties, cities, and other entities to develop hyper-local campaigns. Stewards of Affordable Housing for the Future urges the Commission to accompany the applications with designated funding to ensure households can participate in the Affordable Connectivity Program. The National Hispanic Media Coalition asks the Commission to build out grant amounts to adequately cover an organization's capacity to apply and comply with the grant, as well as plan and implement an outreach program.

3. Eligible Activities

21. Having established the types of agencies and organizations with which the Commission expects to participate in this pilot, the Commission now turns to the activities that may be undertaken pursuant to the pilot. The Commission encourages applicants to be creative in developing pilot program proposals to connect with eligible but so far unreached households living in public housing or receiving Federal housing assistance. While the Commission identifies potential pilot program activities below, the discussion here is not meant to be an exhaustive list. As discussed below, the Bureau will provide additional guidance in a public notice announcing the application process.

22. Electronic and Downloadable Content. Since the launch of the Emergency Broadband Benefit Program (EBB Program), the Commission and USAC have produced and published electronic and downloadable content for its partners to use to promote the Affordable Connectivity Program and the EBB Program to low-income consumers, including materials in languages other than English. This pilot offers the opportunity to better serve a specific audience: those who receive assistance from Federal housing assistance programs.

23. Commenters also suggest that toolkits and outreach materials specifically tailored to support organizations working with Federal housing assistance recipients would make outreach more effective under this pilot. For example, Microsoft recommends that toolkits be designed to target the staff at the local housing agencies, consumer experts, non-profits, digital navigators, and other outreach partners by providing information and support to those working directly with the Federal housing assistance recipients. Some commenters recommend making such toolkits available in multiple languages, as Federal housing assistance recipients include non-English speakers as well as those for whom English is a second language. The Commission agrees with commenters as to the potential benefits of specialized toolkits for outreach partners focused on Federal housing assistance recipients. Accordingly, the Commission encourages pilot applicants to submit proposals for specialized ACP outreach materials for organizations working with Federal housing assistance recipients. This may include proposals to prepare materials in languages tailored for the communities they serve.

24. Application Assistance. In the ACP Further Notice of Proposed Rulemaking (FNPRM), 87 FR 8385, February 14, 2022, the Commission sought comment on how to best assist Federal housing assistance recipients in accessing or navigating the application process for the Affordable Connectivity Program. Commenters indicate that Federal housing assistance recipients may face difficulty during the ACP application process. Mississippi Center for Justice states that many applicants face application challenges, such as language barriers, preventing eligible households from applying. Mississippi Center for Justice further asserts that the application process requires applicants to submit additional documents and applicants may abandon their Lifeline or EBB applications, which commenters predicted would also occur for ACP applicants. The National Digital Inclusion Alliance (NDIA) explains that the application process can be confusing for many Federal housing assistance recipients, deterring them from applying.

25. In the Lifeline program, applicants are permitted to receive assistance in the application process from trusted third parties. For example, state entities and Tribal partners may request access to the National Verifier to assist applicants who are physically present with completing and submitting an application for the Lifeline program. To gain access to the National Verifier, state or Tribal entity representatives must register in the Representative Accountability Database (RAD) and indicate their assistance when helping consumers submit an application through the National Verifier. Similarly, as with the Lifeline program, in the ACP Order, the Commission directed the Bureau, in coordination with USAC, to conduct a separate one-year ACP Navigator Pilot, granting “trusted, neutral third-party entities such as schools and school districts, or other local or state government entities” access to the National Verifier for the purpose of assisting customers with applying for the Affordable Connectivity Program.

26. The Commission finds support in the record for providing limited access to the National Verifier to application assistants or navigators to help Federal housing assistance recipients navigate the application process for the Affordable Connectivity Program. Commenters state that having individuals assist with applications “would alleviate . . . burdens on the applicants and promote additional engagement with FPHA recipients.” The Chicago Housing Authority argued that allowing access to the National Verifier database would reduce the amount of time it takes to complete the enrollment process to get residents enrolled in the Affordable Connectivity Program. NCTA—The Internet & Television Association (NCTA) supports “the FCC's proposal to encourage partner agencies to gain access to the National Verifier in order to assist federal housing assistance recipients in applying for the Affordable Connectivity Program through the National Verifier.”

27. Based on the record before the Commission and its experience with the Lifeline program, the Commission believes that it will be beneficial to grant access to the National Verifier to neutral, trusted government entities such as state and local housing agencies, Tribally Designated Housing Entities, associations representing multiple Tribally Designated Housing Entities, or other state, regional, and local government entities or their partners for purposes of assisting recipients of Federal housing assistance with completing and submitting an application for the Affordable Connectivity Program, provided that the consumer is physically present with the person providing assistance. Therefore, the Commission encourages pilot applicants to include requests for access to the National Verifier in connection with the Your Home, Your Internet Pilot Program and/or the ACP Navigator Pilot.

28. In addition, some commenters suggested that the Commission allow access to the National Verifier to certain trusted tenant associations and non-profit or community-based organizations. USTelecom comments that the Commission should “partner with federal, state, and local housing authorities, as well as third parties, including national and regional housing advocacy organizations, tenant associations, and other groups that are already working in this space to assist in reaching households in public housing who would benefit from Affordable Connectivity Program participation.” NCTA states that the Commission should collaborate with trusted partners that could assist residents in applying for the Affordable Connectivity Program based on their participation in the Federal housing assistance programs. The Commission agrees with commenters that community organizations are well positioned to provide one-on-one support and in-person guidance about navigating the ACP application in their neighborhoods. Therefore, as discussed below, the Commission will allow access to the National Verifier to a limited number of tenant associations, on-site service coordinators, and non-profit or community-based organizations that already have an established partnership with governmental agencies participating in the pilot. A tenant association, non-profit, or community-based organization may participate in the pilot provided that the government entity it is partnering with submits support of the partnership. Additionally, enrollment activities through the National Verifier must take place in the government entity's facility or other location or setting maintained or operated with support from the government entity. Tenant associations, on-site service coordinators, non-profits, and community-based organizations must have their representatives register in the RAD and indicate their assistance when helping consumers submit an application through the National Verifier. Governmental entities must oversee these organizations to ensure adequate safeguards are in place to prevent any misconduct, waste, fraud, or abuse and that appropriate measures are in place to protect the personally identifiable information of the applicants.

29. Governmental agencies participating in this pilot (and their partners as applicable) must maintain neutrality with respect to ACP participating providers when assisting consumers in connection with this pilot. Those voluntarily participating in this pilot cannot, when assisting applicants, direct consumers to a specific ACP provider's website or otherwise recommend a specific ACP provider. Pilot participants assisting consumers with the application may, however, refer consumers to a list of providers offering ACP service in their area. Those providing application assistance through this pilot are also prohibited from accepting gifts or other incentives from a participating provider that would have the effect of influencing an agency or partner to encourage consumers they are assisting to enroll with a specific provider. Furthermore, pilot participants may not otherwise accept funding in any form, including in-kind contributions, from a participating provider or a specific group of participating providers (including, but not limited to, broadband industry groups such as trade associations) for the purpose of assisting consumers in connection with this pilot. As discussed below, these requirements do not prohibit activities like sign-up events conducted with ACP providers so long as those activities are open to all providers serving the relevant location.

30. Some commenters recommend allowing state, local, and Tribal housing agencies to automatically enroll Federal housing assistance recipients in the Affordable Connectivity Program, stating that Federal housing assistance recipients' eligibility has already been prequalified. The National Verifier application is designed to ease the qualification process by leveraging connections with state and Federal databases. Currently, the National Verifier has a connection with HUD to verify applicants' participation in certain FPHA programs, for which the Commission, USAC and HUD have entered into a Computer Matching Agreement to comply with the Computer Matching and Privacy Protection Act of 1988. The National Verifier is also an important tool in combating waste, fraud, and abuse in the Affordable Connectivity Program by validating consumer identity and, with the use of the NLAD, to identify duplicate households in the program. The Commission declines at this time to modify the qualification and enrollment processes for the Affordable Connectivity Program to allow HUD or housing agencies to “auto-qualify” or bulk enroll households without first requiring a household to submit a National Verifier application. Instead, the application assistance tools the Commission adopts as part of this pilot will build upon the database connections and existing matching agreements related to the National Verifier to further streamline the application process for Federal housing assistance recipients, while at the same time protecting program integrity and consumer choice.

31. To the extent that pilot applicants have proposals for tools to assist in the application process that they may seek to utilize during the pilot, the Commission encourages them to submit proposals incorporating the use of such application assistance tools to test the effectiveness of those tools during the pilot program. One important goal of the Your Home, Your Internet Pilot Program is to identify methods to decrease the amount of time and effort needed to sign up for the Affordable Connectivity Program, while at the same time protecting the integrity of the program. The Commission directs the Bureau, with support from USAC, OMD, and OGC, to explore the feasibility of permitting the use of such application aids during this pilot, and to ensure that the use of such tools is consistent with legal and USAC system requirements and will not invite waste, fraud, and abuse into the Affordable Connectivity Program. In addition to providing National Verifier access to help support the completion of ACP applications, the Commission encourages pilot participants to consider as part of their proposals “train the trainer” events or webinars to educate housing organizations, government agencies, and other authorized partners about the application and enrollment process and to answer their questions about the program.

32. In the ACP FNPRM, the Commission also sought comment on whether the Commission should encourage the entities participating in the pilot program to establish on-site assistance locations where eligible household members can complete applications for the Affordable Connectivity Program. In the ACP FNPRM, the Commission did not define or provide examples of on-site assistance locations; however, examples from the record include properties where Federal housing assistance recipients reside. Commenters agree that those participating in the pilot program should establish on-site assistance locations where Federal housing assistance recipients can complete ACP applications. NDIA states that “FPHA beneficiaries would benefit enormously from an on-site enrollment assistance location where they can complete and submit an ACP application in a one-stop manner.” NDIA further argues that “an on-site assistance location would reduce the application burden on households, build trust, and ultimately increase ACP enrollment amongst FPHA beneficiaries.” Local Initiatives Support Corporation (LISC) asserts that it is essential to consider partnerships that would elevate the Affordable Connectivity Program, and in particular should focus on on-site service coordinators at properties. NCTA comments that allowing partner agencies to gain access to the National Verifier would allow partner agencies to host on-site enrollment events and provide immediate support to eligible households navigating the application process.

33. The Commission also acknowledges that ACP participating providers serve a pivotal role in enrolling eligible Federal housing assistance recipients in the Affordable Connectivity Program. There is evidence in the record that housing agencies and cities have had success working with providers to offer ACP service to qualified households receiving housing assistance. On the other hand, NDIA argues that public housing tenants and other recipients of housing assistance often distrust providers and NDIA's affiliates have needed to participate in calls between qualified households and providers in order to complete the enrollment process. Organizations participating in the pilot may co-host events with providers, so long as the organization maintains neutrality and does not favor a particular provider or restrict participation in events to particular providers, if multiple ACP providers serve the area. The Commission finds that there is value in providers promoting their services to this eligible population so long as it is done in compliance with the Commission's rules and is consistent with Congress's consumer protection requirements. The Commission reminds providers wishing to send their agents to a location where there is on-site application assistance of the requirements that the Commission established in the ACP Order to protect consumers, including the need to provide disclosures about the Affordable Connectivity Program and to capture informed consent prior to enrolling a household. Providers are prohibited from linking enrollment in the Affordable Connectivity Program to some other action such signing up for Lifeline service and from engaging in upselling and downselling of ACP services.

34. USAC will be required to grant access to the National Verifier to approved pilot applicants that meet the established requirements for such access for purposes of assisting eligible Federal housing assistance recipients with the application process. Consistent with current practice in the Lifeline program, the Commission requires that representatives of the trusted entities granted access to the National Verifier in this pilot register in the RAD pursuant to the Commission's rules. Entities participating in this pilot must maintain neutrality with respect to ACP participating providers when assisting consumers in connection with this pilot. Selected pilot participants will be required to provide updates to the Bureau regarding their experience with the application process, aggregate, non-personally identifiable information about the consumers they are assisting, any occurrences or incidents involving unauthorized access to the National Verifier (e.g., by an unauthorized user), and other aspects of the pilot. To help identify the applications that benefited from the application assistance made possible through this pilot, the pilot participants shall ensure that their assigned representative identification number or other identifier as determined by USAC is provided on the application. Additional data to be reported by pilot participants and the format of the required data shall be determined by the Bureau consistent with the direction provided by this document. The data collected will assist the Commission in measuring the success of the pilot and track the progress towards meeting the pilot program goals. The Commission further encourages pilot participants to conduct their own evaluations of outreach efforts and share insights with the Bureau. Upon conclusion of the year-long pilot program, pilot participants will no longer have access to the National Verifier absent further action by the Bureau or the Commission.

35. Finally, the Commission recognizes the important role that navigators can play in helping all eligible households, including those not receiving Federal housing assistance, manage the ACP application process. To learn more about those opportunities, the Commission will also be establishing guidance for participation in a separate Navigator Pilot that will focus on helping other ACP eligible households with the application. Your Home, Your Internet Pilot Program participants are eligible to participate in the separate ACP Navigator Pilot, and the Commission encourages them to consider participating in both to ensure the widest impact to the Affordable Connectivity Program. To that end, the Commission directs the Bureau, in consultation with USAC, to consider ways to streamline the application processes and necessary training to permit entities qualified to serve in the Your Home, Your Internet Pilot Program and the ACP Navigator pilots to participate in both. The efficiencies gained by allowing dual participation by entities qualified to participate in both pilots will allow the Commission to quickly stand up and track progress toward the goals the Commission has established for each pilot. The Commission directs the CGB, including the Office of Native Affairs and Policy, and the Office of Communications Business Opportunities (OCBO), in coordination with the Bureau and USAC, to promote both pilots among entities likely to be eligible to participate.

4. Application Procedures and Selection Criteria

36. Below the Commission discusses the required procedures for entities eligible and interested in applying to participate in the Your Home, Your Internet Pilot Program. The Commission next discusses the selection criteria the Bureau will use to select up to 20 Your Home, Your internet participants.

37. Application Process. Eligible entities seeking to participate in the pilot program must apply and be approved by the Bureau. The Commission directs the Bureau, in coordination with other Bureaus and Offices, as necessary, to establish an application review process for interested pilot participants consistent with this document. The Commission directs the Bureau to establish an application window during which interested entities seeking approval to participate in the pilot program will receive guaranteed consideration of their submitted application. The Commission believes that establishing this window will not only allow the Bureau to select a diverse group of pilot participants, but also encourage selected entities to work quickly to ensure appropriate measures are in place to assist Federal housing assistance recipients with navigating the ACP application. The Commission directs the Bureau to consider the timing of available grant awards for the Affordable Connectivity Outreach Grant Program when considering the deadlines for the filing window.

38. As a part of the application process, interested entities will be required to submit a detailed proposal explaining their plan. Applicants should also be prepared to submit, at a minimum, information about the entities including any partnerships; the geographic areas (including whether rural, urban, tribal, or other) and constituencies the entity intends to serve (including estimates of the number of eligible households with which the entity would engage); housing or other state, local, or Tribal agencies with which the entity works; and to provide a description of the entity's role in the community which it is serving. Tenant associations, non-profits, and community-based organizations should also include information about the government entity providing support for their partnership as well as describing the nature of the partnership.

39. Selection Criteria. In order to increase participation in the Affordable Connectivity Program, the Commission's goal is to select applications that target areas with lower program participation rates and areas where application assistants or navigators will have the most impact on addressing barriers Federal housing assistance recipients face when navigating the ACP application. The Commission directs the Bureau to review applications and select entities to participate in the pilot program in a manner that ensures a geographically diverse group of pilot participants, representing both urban and rural areas. Within 60 days of the release of this document, the Commission directs the Bureau to issue a public notice announcing the pilot application requirements and the deadline for submitting applications during the window. In order to increase the chances of attracting a diverse variety of applications, the application window will be open for no fewer than 28 days. Interested entities should not submit applications to participate in this pilot prior to the opening of the window. The Commission further delegates authority to the Bureau to provide additional guidance to prospective pilot participants where necessary to carry out this document.

40. Participation in the Your Home, Your Internet Pilot Program will initially be limited to no more than 20 participants. Depending on pilot program demand from entities seeking to participate, the Commission delegates to the Bureau the option to accept more than 20 participants into the pilot program if doing so would further the goals of the pilot. The Commission directs the Bureau to establish necessary systems and processes to fairly and systematically review pilot applications. Applicants will be notified by the Bureau of their selection to participate in the pilot. The Commission further directs the Bureau to consolidate, where possible, the application process for the ACP Navigator Pilot with this pilot to allow participation by entities that are eligible to participate in both.

5. Metrics for Evaluating the Success of Pilot Project

41. In order to properly analyze the results of the Your Home, Your Internet Pilot Program, the Commission adopts requirements for pilot participants to provide data and other information necessary for the Bureau to issue a report summarizing the results of the pilot. The Commission directs the Bureau to submit a report to the Commission after the conclusion of the Your Home, Your Internet Pilot Program to inform the Commission's future efforts to facilitate the Affordable Connectivity Program application process for households receiving Federal housing assistance.

42. Data. When adopting the ACP rules, the Commission directed Commission staff, with support from USAC, to collect data, including possibly via a survey, that measures the general public's awareness of the Affordable Connectivity Program. The Commission directs the Bureau and the Office of Economics and Analytics (OEA), with support from USAC, to work with the entities that participate in the pilot to collect information that could be used to measure program performance while balancing the additional burdens such coordination may impose on the pilot participants. Helpful data may include the number, location (city and state), nature of their outreach, and type (local, state, Tribal, Federal, non-profit, community-based organization, etc.) of trusted partners that participate in the pilot. In addition, the Commission directs USAC to collect data regarding the number of applications started, applications completed, and subsequent enrollments of self-reported Federal housing assistance recipients that have been assisted by trusted partners. Surveys may be used to gather additional information which may not be captured through available data sources. The Commission gives the Bureau, OEA, and USAC the option to conduct surveys on the awareness of the Affordable Connectivity Program among Federal housing assistance program participants and any enrollment barriers these households may have faced. Additionally, to help protect participants' personally identifiable information, the Commission delegates to the Bureau the authority to issue additional guidance addressing the appropriate and necessary protections regarding the collection of participant data.

43. Performance Goals. Through this pilot program, the Commission aims to increase awareness of and participation in the Affordable Connectivity Program among the Federal housing assistance recipients and to identify the barriers to enrollment for Federal housing assistance recipients. To that end, it is important to establish performance measurements and goals to determine how the Commission can ensure maximum participation by qualified Federal housing assistance recipients during and beyond the pilot's term.

44. To evaluate the success of the Your Home, Your Internet Pilot Program, it will be important to track applications and enrollments and to solicit feedback from partners and households about their experience enrolling in the Affordable Connectivity Program. The Commission directs the Bureau and OEA, with support from USAC, to track and collect appropriate data and to further develop metrics to determine progress toward the pilot's goal of increasing awareness of and enrollment in the Affordable Connectivity Program among households participating in qualifying Federal housing assistance programs. The Commission directs OEA, the Bureau, and USAC to consider tracking, for both Federal housing assistance and non-Federal housing assistance households: the ratio of enrollments to qualified applications; the ratio of qualified applications to all applications; and the participation rate for Federal housing assistance recipients and all households to measure any improvement in these metrics as a result of the pilot. Because households receiving Federal housing assistance may well participate in other ACP-qualifying programs, the Commission expects that this analysis will necessarily rely to some extent on households to self-report that they receive Federal housing assistance on their ACP application form. The Commission encourages partners to remind households completing the application to indicate all of the qualifying programs in which they participate so that the Commission can better identify and track the households that self-report as receiving Federal housing assistance, even if those households ultimately are qualified based on income, their participation in Medicaid, or another qualifying program. To the extent possible, the Commission directs OEA and the Bureau, with assistance from USAC, to identify ways in which HUD can provide relevant information to construct measures of performance, including checking current qualified subscribers against HUD databases to identify subscribers who participate in Federal housing assistance programs but did not indicate so on their application.

45. The Commission also directs the Bureau, in coordination with USAC and OEA, to identify ways in which program requirements, application and enrollment processes, and the ways in which the Affordable Connectivity Program is promoted can better serve Federal housing assistance recipients. For example, Chicago Housing Authority argues that because some households do not have an email address, establishing one when applying through the online application can result in delays. Through this pilot, the Commission can track how the email address requirement impacts the timely completion of the ACP application.

46. Final report. Within 180 days of the completion of the one-year pilot, the Commission directs the Bureau to send a report to the Commission summarizing its results. The report should describe the Your Home, Your Internet Pilot Program's successes and challenges and include recommendations on further action to increase participation in the Affordable Connectivity Program among Federal housing assistance recipients, including addressing, consistent with the program requirements set forth in the Infrastructure Act and the Commission's obligation to limit waste, fraud, and abuse in the Affordable Connectivity Program, barriers to enrollment. In developing the report, staff should consider the experience of the trusted entities granted access to the National Verifier and the impact granting this access to the National Verifier had on the number of qualified applications for those who receive Federal housing assistance. The Bureau, OEA, or USAC may also conduct focus groups or send a questionnaire/survey to pilot participants assisting Federal housing assistance recipients with the application to help with these and other questions. Based on findings in the final pilot report and feedback from pilot participants, the Bureau and/or USAC may release additional guidance regarding the potential expansion of access to the National Verifier to assist with completion of the ACP application.

47. It is clear from the record that the groups that serve Federal housing assistance recipients are mobilized and eager to continue to work with Federal housing assistance recipients to maximize the benefits offered through the Affordable Connectivity Program. The pilot the Commission establishes is just one of the tools the Commission is standing up to target eligible households to increase their participation in the Affordable Connectivity Program. Through the Your Home, Your Internet Pilot Program the Commission adopts, along with the ACP Navigator Pilot, and the Outreach Grant Order and the Notice of Funding Opportunity anticipated for the fall, the Commission will empower its governmental and non-profit partners with the tools to reach more eligible households to promote the Affordable Connectivity Program and to encourage their participation. To that end, the Commission directs the Bureau, in coordination with other Offices and Bureaus, as well as USAC, to establish this pilot program consistent with the timetables the Commission adopts in this document to expand program awareness and to assist with the completion of the applications. The Commission also delegates to the Bureau the authority to make modifications to the National Verifier to implement recommendations in the final report to address any barriers to enrollment, consistent with program requirements set forth in the Infrastructure Act as well as the Commission's obligation to limit waste, fraud, and abuse in the Affordable Connectivity Program. The Commission also encourages those entities that plan to participate in this pilot program to look for guidance to be issued in the coming months on the ACP Navigator Pilot and Outreach Grant Program funding opportunities to boost the grassroots support to eligible households the Commission enables through these pilots.

III. Procedural Matters

48. Regulatory Flexibility Act. The Regulatory Flexibility Act of 1980, as amended (RFA), requires that an agency prepare a final regulatory flexibility analysis “whenever an agency promulgates a final rule under [5 U.S.C. 553], after being required by that section or any other law to publish a general notice of proposed rulemaking.” The Commission's Consumer and Governmental Affairs Bureau, Reference Information Center, will send a copy of the Third Report and Order, including the FRFA, to the Chief Counsel for Advocacy of the Small Business Administration (SBA). Consistent with the Regulatory Flexibility Act of 1980, as amended (RFA), an Initial Regulatory Flexibility Analysis (IRFA) was incorporated in the Affordable Connectivity Program Further Notice of Proposed Rulemaking (ACP FNPRM). The Commission sought written public comment on proposals in the ACP FNPRM, including comment on the IRFA. The Commission did not receive any comments in response to this IRFA. This Final Regulatory Flexibility Analysis (FRFA) conforms to the RFA.

A. Need for, and Objectives of, This Final Action

49. The Affordable Connectivity Program provides a monthly discount of up to $30 per month (and up to $75 per month for households on qualifying Tribal lands) as well as a one-time $100 discount toward a laptop, desktop computer, or tablet. When adopting the final rules for the Affordable Connectivity Program, the Commission sought further comment on a proposal to target outreach and provide application support to residents of public housing and other Federal Public Housing Assistance (FPHA) recipients that are eligible for the Affordable Connectivity Program.

50. The ACP FNPRM proposed and sought comment on a pilot program focused on expanding ACP participation by FPHA program (including housing choice voucher program (Section 8), project-based rental assistance, and public housing) recipients including increasing awareness and assisting with navigating the ACP enrollment process. To that end, the Commission proposed and sought comment on a pilot program to develop partnerships with agencies that administer the FPHA programs for collaborative cross-agency outreach and marketing regarding the Affordable Connectivity Program to recipients of those housing programs. The ACP FNPRM sought comment on how the Commission could structure this pilot, how to make the pilot effective, data sources the Commission could use to identify locations for this pilot, and how to measure the success of the pilot. In this document, the Commission establishes a one-year pilot program with the goal of increasing awareness of the Affordable Connectivity Program among Federal housing assistance recipients and facilitating enrollment into the program by providing targeted assistance with completion of the ACP application. The document sets forth the details of the pilot by identifying the government entities and third-party organizations who may apply to participate in the pilot to gain limited access to the National Verifier to help Federal housing assistance recipients complete and submit their ACP applications. The document also identifies changes to the ACP application process, the success of which will be tested in the Your Home, Your Internet Pilot Program.

B. Summary of Significant Issues Raised by Public Comments in Response to the IRFA

51. The Commission did not receive comments that specifically addressed the IRFA contained in the ACP FNPRM.

C. Response to Comments by the Chief Counsel for Advocacy of the Small Business Administration

52. Pursuant to the Small Business Jobs Act of 2010, which amended the RFA, the Commission is required to respond to any comments filed by the Chief Counsel of the Small Business Administration (SBA), and to provide a detailed statement of any changes made to the proposed rule(s) as a result of those comments.

53. The Chief Counsel did not file any comments in response to the ACP FNPRM.

D. Description and Estimate of the Number of Small Entities to Which the Final Action Will Apply

54. The RFA directs agencies to provide a description of, and where feasible, an estimate of the number of small entities that may be affected by the proposed rules, if adopted. The RFA generally defines the term ”small entity” as having the same meaning as the terms “small business,” “small organization,” and “small governmental jurisdiction.” In addition, the term “small business” has the same meaning as the term “small business concern” under the Small Business Act. A small business concern is one that: (1) is independently owned and operated; (2) is not dominant in its field of operation; (3) satisfies any additional criteria established by the Small Business Administration (SBA).

55. Small Businesses, Small Organizations, Small Governmental Jurisdictions. The Commission's actions, over time, may affect small entities that are not easily categorized at present. The Commission therefore describes here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 32.5 million businesses.

56. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

57. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 50,000. Accordingly, based on the 2017 U.S. Census of Governments data, the Commission estimates that at least 48,971 entities fall into the category of “small governmental jurisdictions.”

58. Wired Broadband Internet Access Service Providers (Wired ISPs). Providers of wired broadband internet access service include various types of providers except dial-up internet access providers. Wireline service that terminates at an end user location or mobile device and enables the end user to receive information from and/or send information to the internet at information transfer rates exceeding 200 kilobits per second (kbps) in at least one direction is classified as a broadband connection under the Commission's rules. Wired broadband internet services fall in the Wired Telecommunications Carriers industry. The SBA small business size standard for this industry classifies firms having 1,500 or fewer employees as small. U.S. Census Bureau data for 2017 show that there were 3,054 firms that operated in this industry for the entire year. Of this number, 2,964 firms operated with fewer than 250 employees.

59. Additionally, according to Commission data on internet access services as of December 31, 2018, nationwide there were approximately 2,700 providers of connections over 200 kbps in at least one direction using various wireline technologies. The Commission does not collect data on the number of employees for providers of these services, therefore, at this time the Commission is not able to estimate the number of providers that would qualify as small under the SBA's small business size standard. However, in light of the general data on fixed technology service providers in the Commission's 2020 Communications Marketplace Report, the Commission believes that the majority of wireline internet access service providers can be considered small entities.

60. Wireless Broadband Internet Access Service Providers (Wireless ISPs or WISPs). Providers of wireless broadband internet access service include fixed and mobile wireless providers. The Commission defines a WISP as “[a] company that provides end-users with wireless access to the Internet[.]” Wireless service that terminates at an end user location or mobile device and enables the end user to receive information from and/or send information to the internet at information transfer rates exceeding 200 kilobits per second (kbps) in at least one direction is classified as a broadband connection under the Commission's rules. Neither the SBA nor the Commission have developed a size standard specifically applicable to Wireless Broadband Internet Access Service Providers. The closest applicable industry with an SBA small business size standard is Wireless Telecommunications Carriers (except Satellite). The SBA size standard for this industry classifies a business as small if it has 1,500 or fewer employees. U.S. Census Bureau data for 2017 show that there were 2,893 firms in this industry that operated for the entire year. Of that number, 2,837 firms employed fewer than 250 employees.

61. Additionally, according to Commission data on internet access services as of December 31, 2018, nationwide there were approximately 1,209 fixed wireless and 71 mobile wireless providers of connections over 200 kbps in at least one direction. The Commission does not collect data on the number of employees for providers of these services, therefore, at this time the Commission is not able to estimate the number of providers that would qualify as small under the SBA's small business size standard. However, based on data in the Commission's 2020 Communications Marketplace Report on the small number of large mobile wireless nationwide and regional facilities-based providers, the dozens of small regional facilities-based providers and the number of wireless mobile virtual network providers in general, as well as on terrestrial fixed wireless broadband providers in general, the Commission believes that the majority of wireless internet access service providers can be considered small entities.

E. Description of Projected Reporting, Recordkeeping, and Other Compliance Requirements

62. In this document the Commission establishes the requirements for the pilot program designed to increase awareness of and participation in the Affordable Connectivity Program among Federal housing assistance recipients. For eligible entities seeking to participate in the pilot program the Commission adopted an application process that requires, at minimum, entities to submit information about the entities including any partnerships; their geographic areas (including whether rural, urban, or other) and constituencies the entity intends to serve (including estimates of the number of eligible households with which the entity would engage); housing or other state, local, or Tribal authorities with which the entity works; and to provide a description of the entity's role in the community which it is serving. Tenant associations, non-profits, or community-based organizations should include, as a part of their application, information about the government entity providing support for their partnership as well as describing the nature of the partnership. In order to increase participation in the Affordable Connectivity Program, the Commission's goal is to select applications that target areas with low program participation rates and areas where application assistants or navigators will have the most impact on addressing barriers Federal housing assistance recipients face when navigating the ACP application. The Commission therefore, established an application window, during which interested entities seeking approval to participate in the pilot program will receive guaranteed consideration of their submitted application. The Bureau, will select pilot participants based on applications, and applicant's responses to the information criteria listed above. Applicants that seek funding for their pilot program activities will need to abide by any application requirements established in the Affordable Connectivity Outreach Grant Program.

63. Similar to the current practice in the Lifeline program, the Commission will require representatives of the entities granted access to the National Verifier to register in the RAD. Also, selected pilot participants will be required to provide updates to the Bureau and USAC regarding their experience with the application process, aggregate, non-personally identifiable information about the consumers they are assisting, any occurrences or incidents involving unauthorized access to the National Verifier (e.g., by an unauthorized user), and other aspects of the pilot. Additionally, in order to help identify the applications that benefited from the application assistance made possible through this pilot, assistants shall ensure that their assigned representative identification number or other identifier as determined by USAC is provided on the application. Additional data to be reported by pilot participants and the format of the required data shall be determined by the Bureau consistent with the direction provided by this document. The Commission encourages pilot participants to conduct their own evaluations of outreach efforts and share insights with the Bureau.

64. The Commission will require the Bureau and the Office of Economics and Analytics (OEA), with support from USAC, to work with entities that participate in this pilot to collect information that could be used to measure program performance. Helpful data may include the number, location (city and state), the nature of their outreach, and type (local, state, Federal, non-profit, community-based organization, etc.) of trusted partners that participate in this pilot. Surveys may be used to gather additional information which may not be captured through available data sources. The Commission gives the Bureau, OEA, and USAC the option to conduct surveys on the awareness of the Affordable Connectivity Program among Your Home, Your Internet participants and any enrollment barriers these households may have faced. Additionally, to help protect participants' personally identifiable information, the Commission delegates to the Bureau the authority to issue additional guidance addressing the appropriate and necessary protections regarding the collection of participant data.

F. Steps Taken To Minimize Significant Economic Impact on Small Entities, and Significant Alternatives Considered

65. The RFA requires an agency to describe any significant alternatives that it has considered in reaching its approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

66. The Commission has considered the economic impact on small entities in reaching its final conclusions and taking action in this proceeding. The pilot program that the Commission establish in this document will help to identify and address barriers to enrollment for Federal housing assistance recipients and provide an efficient application process for all pilot participants, including small entities. The Commission intends to minimize the burdens imposed on small entities where doing so would not compromise the goals of the Affordable Connectivity Program and this pilot program. The regulatory burdens, such as the voluntary application process and data collection, can be used to measure program performance while balancing the additional burdens that may be imposed on Your Home, Your Internet Pilot Program participants. The Commission will continue to examine alternatives in the future with the objective of eliminating unnecessary regulations and minimizing any significant impact on small entities.

G. Report to Congress

67. The Commission will send a copy of the Third Report and Order, including the FRFA, in a report to be sent to Congress pursuant to the Congressional Review Act. In addition, the Commission will send a copy of the Third Report and Order, including this FRFA, to the Chief Counsel for Advocacy of the SBA. A copy of the Third Report and Order, including the FRFA (or summaries thereof), will also be published in the Federal Register.

68. Congressional Review Act. The Commission has determined, and the Administrator of the Office of Information and Regulatory Affairs, Office of Management and Budget, concurs, that this rule is “non-major” under the Congressional Review Act, 5 U.S.C. 804(2). The Commission will send a copy of the Third Report and Order to Congress and the Government Accountability Office pursuant to 5 U.S.C. 801(a)(1)(A).

69. Paperwork Reduction Act. Pursuant to 47 U.S.C. 1752(h)(2), the collection of information sponsored or conducted under the regulations promulgated in the Third Report and Order is deemed not to constitute a collection of information for the purposes of the Paperwork Reduction Act, 44 U.S.C. 3501-3521.

IV. Ordering Clauses

70. Accordingly, it is ordered that, pursuant to the authority contained in Section 904 of Division N, Title IX of the Consolidated Appropriations Act, 2021, Public Law 116-260, 134 Stat. 1182, as amended by Infrastructure Investment and Jobs Act, Public Law 117-58, 135 Stat. 429 (2021), the Report and Order is adopted.

71. It is further ordered that the Office of the Managing Director, Performance Evaluation and Records Management, shall send a copy of the Third Report and Order in a report to be sent to Congress and the Government Accountability Office pursuant to the Congressional Review Act, 5 U.S.C. 801(a)(1)(A).

72. It is further ordered, that the Commission's Consumer and Governmental Affairs Bureau, Reference Information Center, shall send a copy of the Third Report and Order, including the Final Regulatory Flexibility Analysis, to the Chief Counsel for Advocacy of the Small Business Administration.

Federal Communications Commission.
Sheryl Todd,
Deputy Secretary, Office of the Secretary.

[FR Doc. 2022-18293 Filed 9-2-22; 8:45 am]

BILLING CODE 6712-01-P